DEPARTMENT OF HOMELAND SECURITY

Transportation Security Administration

[Docket No. TSA-2009-0018]

Intent To Request Renewal From OMB of One Current Public Collection of Information: Certified Cargo Screening Program

AGENCY: Transportation Security Administration, DHS.

ACTION: 60-Day notice.

SUMMARY: The Transportation Security Administration (TSA) invites public comment on one currently approved Information Collection Request (ICR), OMB control number 1652-0053, abstracted below that we will submit to the Office of Management and Budget (OMB) for renewal in compliance with the Paperwork Reduction Act. The ICR describes the nature of the information collection and its expected burden. The collections include: (1) Applications from entities that wish to become Certified Cargo Screening Facilities (CCSF) or operate as a TSA-approved validation firm; (2) personal information to allow TSA to conduct security threat assessments on key individuals employed by the CCSFs and validation firms; (3) implementation of a standard security program or submission of a proposed modified security program; (4) information on the amount of cargo screened; (5) recordkeeping requirements for CCSFs and validation firms; and (6) submission of validation reports to TSA. TSA is seeking the renewal of the ICR for the continuation of the program in order to secure passenger aircraft carrying cargo by the deadlines set out in the Implementing Recommendations of the 9/11 Commission Act of 2007.

DATES: Send your comments by December 13, 2010.

ADDRESSES: Comments may be e-mailed to TSAPRA@dhs.gov or delivered to the TSA Paperwork Reduction Act (PRA) Officer, Office of Information Technology (OIT), TSA-40, Transportation Security Administration, 601 South 12th Street, Arlington, VA 20598-6040.

FOR FURTHER INFORMATION CONTACT: Please email TSA.PRA@dhs.gov with questions or comments.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

OMB Control Number 1652-0053, Certified Cargo Screening Program, 49 CFR Parts 1515, 1520, 1522, 1540, 1544, 1546, 1548, and 1549

TSA is seeking renewal of an expiring collection of information. Section 1602 of the Implementing Recommendations of the 9/11 Commission Act of 2007 (Pub. L. 110-53, 121 Stat. 266, 278, August 3, 2007) requires the development of a system to screen 50 percent of the cargo transported on a passenger aircraft by February 2009, and to screen 100 percent of such cargo by August 2010. In September 2009, TSA issued an interim final rule (IFR) amending 49 CFR to implement this statutory requirement. See 74 FR 47672 (September 16, 2009). TSA received approval from OMB for the collections of information contained in the IFR. TSA now seeks to extend this approval from OMB. Accordingly, TSA must proceed with this ICR for this program in order to continue to meet the Congressional mandate. The ICR will allow TSA to collect several categories of information as explained below.

Data Collection

TSA certifies qualified facilities as CCSFs. Companies seeking to become CCSFs are required to submit an application to TSA at least 90 days before the intended date of operation. All CCSF applicants submit applications and related information either electronically through email or through the online Air Cargo Document Management System. TSA also accepts applications by postal mail. Once TSA approves the application, TSA allows the regulated entity to operate as a CCSF in accordance with a TSA-approved security program. Prior to certification, the CCSF must also submit to an assessment by a TSA-approved validator or TSA.

TSA also requires CCSFs and validation firms to accept and implement a standard security program provided by TSA or to submit a proposed modified security program to the designated TSA official for approval.

TSA requires CCSF applicants to ensure that individuals performing screening and related functions under the IFR have successfully completed a security threat assessment (STA) conducted by TSA. In addition, Security Coordinators and their alternates for CCSFs must undergo STAs. CCSFs must submit personally identifiable information on these individuals to TSA so that TSA can conduct an STA.

CCSF facilities must provide information on the amount of cargo screened and other cargo screening metrics at an approved facility. CCSFs must also maintain screening, training, and other security-related records of compliance with the IFR and make them available for TSA inspection.

A firm interested in operating as a TSA-approved validation firm must also apply for TSA approval. Thus, this ICR also covers the following additional collections for validation firms: (1) Applications from entities seeking to become TSA-approved validation firms; (2) personal information so individuals performing, assisting or supervising validation assessments, and security coordinators can undergo STAs; (3) implementation of a standard security program provided by TSA or submission of a proposed modified security program; (4) recordkeeping requirements, including that validation firms maintain assessment reports; and (5) submission of validation reports conducted by validators in TSA-approved validation firms to TSA.

The forms used for this collection of information include the CCSF Facility Profile Application (TSA Form 419B), CCSF Principal Attestation (TSA Form 419D), Security Profile (TSA Form 419E), Security Threat Assessment Application (TSA Form 419F), TSA Approved Validation Firms Application (TSA Form 419G), Aviation Security Known Shipper Verification (TSA Form 419H), and the Cargo Reporting Template.

Estimated Burden Hours

As noted above, TSA has identified several separate information collections under this ICR. These collections will affect an estimated total of 16,989 unique respondents, including the CCSP pilot respondents, over the three years of the PRA analysis. Collectively, these information collections represent an estimated average of 723,312 responses annually, for an average annual hour burden of 718,255 hours.

1. CCSF Application. TSA estimates that it will receive 22,541 applications in 3 years, for an average of 7,514 applications annually and that these applications will require an average of 2 hours each to complete, resulting in an annual burden of 15,028 hours (7,514 × 2).

2. Validation Firm Applications. TSA estimates that it will receive 83 applications in 3 years, for an average of 28 applications annually. Each application will require an average of 30 minutes to complete, resulting in an annual burden of 14 hours (28 × 0.5) on the validation firms.

3. STA Applications. All CCSP participants subject to 49 CFR parts 1544, 1546, 1548, and 1549, as well as TSA-approved validation firms, will be required to have certain employees undergo security threat assessments (STAs). TSA estimates it will receive a total of 937,300 applications in 3 years, for an average of 312,433 applications annually. STA application requirements result in an annual burden of approximately 78,108 (312,433 × 0.25).

4. Security Programs. TSA estimates that a total 16,989 CCSFs and validation firms will be required to maintain and update their security programs. Each firm will devote approximately 4 hours each annually, beginning in the second year, updating their security programs. TSA estimates 31,589 security program updates in the first three years for an average of 10,530 updates per year. The annual hour burden is 42,119 (10,530 × 4).

5. Recordkeeping requirements. All CCSFs and validation firms, or 16,989, will be required to maintain records of compliance with the IFR. TSA estimates a time burden of approximately five minutes annually per employee who is required to have an STAto file training records and other records of compliance. This includes validation firm filings of validation assessment reports, resulting in a total of 937,300 record updates in the first three years for an average of 312,433 record updates per year. TSA estimates an annual burden of approximately 25,932 hours (312,433 × 0.083).

6. Validation Assessment Reports. TSA estimates it will take individual validators four hours to write up a validation report. In addition, TSA estimated this will result in 5,635 validations being completed annually, resulting in an annual burden of 22,541 hours (5.635 × 4).

7. Cargo Reporting. TSA estimates that all CCSFs will complete monthly cargo volume reports at an estimated time of one hour per week. The average annual responses, based on one response per firm per month, are 67,624 (5,635 × 12). The estimated annual burden is 293,037 hours (5,646 × 52).

Issued in Arlington, Virginia, on October 7, 2010.
Joanna Johnson,
TSA Paperwork Reduction Act Officer, Office of Information Technology.

[FR Doc. 2010-25802 Filed 10-13-10; 8:45 am]

BILLING CODE 9110-05-P